DEPARTMENT OF ENERGY

Federal Energy Regulatory Commission

Combined Notice of Filings

Take notice that the Commission has received the following Natural Gas Pipeline Rate and Refund Report filings:

Docket Numbers: RP20-812-000.

Applicants: Columbia Gas Transmission, LLC.

Description: § 4(d) Rate Filing: Prepayments to be effective 6/1/2020.

Filed Date: 4/29/20.

Accession Number: 20200429-5029.

Comments Due: 5 p.m. ET 5/11/20.

Docket Numbers: RP20-813-000.

Applicants: Columbia Gas Transmission, LLC.

Description: § 4(d) Rate Filing: Recontracting to be effective 6/1/2020.

Filed Date: 4/29/20.

Accession Number: 20200429-5030.

Comments Due: 5 p.m. ET 5/11/20.

Docket Numbers: RP20-814-000.

Applicants: Bison Pipeline LLC.

Description: Compliance filing 2020 Operational Purchases and Sales Report.

Filed Date: 4/29/20.

Accession Number: 20200429-5045.

Comments Due: 5 p.m. ET 5/11/20.

Docket Numbers: RP20-815-000.

Applicants: Cheyenne Plains Gas Pipeline Company, L.L.C.

Description: § 4(d) Rate Filing: EPC and FLU Computation Update to be effective 6/1/2020.

Filed Date: 4/29/20.

Accession Number: 20200429-5254.

Comments Due: 5 p.m. ET 5/11/20.

Docket Numbers: RP20-816-000.

Applicants: Algonquin Gas Transmission, LLC.

Description: § 4(d) Rate Filing: Negotiated Rate—Bay State to UGI Energy 802106 to be effective 5/1/2020.

Filed Date: 4/29/20.

Accession Number: 20200429-5113.

Comments Due: 5 p.m. ET 5/11/20.

Docket Numbers: RP20-817-000.

Applicants: Ruby Pipeline, L.L.C.

Description: § 4(d) Rate Filing: Electric Power Charge and FLU Update to be effective 6/1/2020.

Filed Date: 4/29/20.

Accession Number: 20200429-5120.

Comments Due: 5 p.m. ET 5/11/20.

Docket Numbers: RP20-818-000.

Applicants: Wyoming Interstate Company, L.L.C.

Description: § 4(d) Rate Filing: FLU Recomputation Update to be effective 6/1/2020.

Filed Date: 4/29/20.

Accession Number: 20200429-5216.

Comments Due: 5 p.m. ET 5/11/20.

Docket Numbers: RP20-819-000.

Applicants: Panhandle Eastern Pipe Line Company, LP.

Description: § 4(d) Rate Filing: Capacity Release Provision to be effective 5/30/2020.

Filed Date: 4/29/20.

Accession Number: 20200429-5272.

Comments Due: 5 p.m. ET 5/11/20.

Docket Numbers: RP20-820-000.

Applicants: Southern Star Central Gas Pipeline, Inc.

Description: § 4(d) Rate Filing: Vol. 2—Negotiated Rate Agreements—Scout and Conexus to be effective 5/1/2020.

Filed Date: 4/29/20.

Accession Number: 20200429-5274.

Comments Due: 5 p.m. ET 5/11/20.

Docket Numbers: RP20-821-000.

Applicants: Enable Gas Transmission, LLC.

Description: § 4(d) Rate Filing: Negotiated Rate Filing—May 1 2020 SWEPCO 1006888 to be effective 5/1/2020.

Filed Date: 4/29/20.

Accession Number: 20200429-5344.

Comments Due: 5 p.m. ET 5/11/20.

Docket Numbers: RP20-828-000.

Applicants: Cameron Interstate Pipeline, LLC.

Description: Annual Report of Penalty Revenues of Cameron Interstate Pipeline, LLC under RP20-828.

Filed Date: 4/29/20.

Accession Number: 20200429-5438.

Comments Due: 5 p.m. ET 5/11/20.

Docket Numbers: RP20-829-000.

Applicants: Cameron Interstate Pipeline, LLC.

Description: Annual Report of Operational Imbalances and Cash-out Activity of Cameron Interstate Pipeline, LLC under RP20-829.

Filed Date: 4/29/20.

Accession Number: 20200429-5440.

Comments Due: 5 p.m. ET 5/11/20.

Docket Numbers: RP20-830-000.

Applicants: Cameron Interstate Pipeline, LLC.

Description: Annual Report of Transportation Imbalances and Cash-out Activity of Cameron Interstate Pipeline, LLC under RP20-830.

Filed Date: 4/29/20.

Accession Number: 20200429-5441.

Comments Due: 5 p.m. ET 5/11/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2020.
Nathaniel J. Davis, Sr.,
Deputy Secretary.

[FR Doc. 2020-09648 Filed 5-5-20; 8:45 am]

BILLING CODE 6717-01-P